INTERNATIONAL TRADE COMMISSION

[Investigation No. 731-TA-1020 (Second Review)]

Barium Carbonate From China; Revised Schedule for the Subject Review

AGENCY: United States International Trade Commission.

ACTION: Notice.

DATES: Effective December 2, 2014.

FOR FURTHER INFORMATION CONTACT: Keysha Martinez (202-205-2136) or Douglas Corkran (202-205-3057), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this review may be viewed on the Commission's electronic docket (EDIS) at http://edis.usitc.gov.

SUPPLEMENTARY INFORMATION:

Background.—On July 24, 2014, the Commission established a schedule for the conduct of this review (79 FR 44864, August 1, 2014). Subsequently, counsel for the domestic interested party filed a request to appear at the hearing and for consideration of cancellation of the hearing. Counsel indicated a willingness to submit written testimony and responses to any Commission questions in lieu of an actual hearing. No other party filed a timely request to appear at the hearing. Consequently, the public hearing in connection with this review, scheduled to begin at 9:30 a.m. on December 3, 2014, at the U.S. International Trade Commission Building, is cancelled. Parties to this review should respond to any written questions posed by the Commission in their posthearing briefs, which are due to be filed on December 12, 2014.

For further information concerning this review see the Commission's notice cited above and the Commission's Rules of Practice and Procedure, part 201, subparts A through E (19 CFR part 201), and part 207, subparts A and C (19 CFR part 207).

Authority: This review is being conducted under authority of title VII of the Tariff Act of 1930; this notice is published pursuant to section 207.62 of the Commission's rules.

By order of the Commission.
Issued: December 2, 2014.
Lisa R. Barton,
Secretary to the Commission.

[FR Doc. 2014-28574 Filed 12-4-14; 8:45 am]

BILLING CODE 7020-02-P